DEPARTMENT OF AGRICULTURE

Farm Service Agency

Public Meetings of Advisory Committee on Beginning Farmers and Ranchers

AGENCY: Farm Service Agency, USDA.

ACTION: Notice of public meetings.

SUMMARY: In accordance with the Federal Advisory Committee Act, the Farm Service Agency (FSA) is issuing this notice to advise the public that meetings of the Advisory Committee on Beginning Farmers and Ranchers (Committee) will be held to discuss various beginning farmer issues.

DATES: The public meetings will be held July 11-12, 2006. The first meeting, on July 11, 2006, will start at 8:30 a.m. and end at 5:30 p.m. The second meeting, on July 12, 2006, will begin at 8 a.m. and end by 4 p.m. All times noted are Eastern Standard Time (EST).

ADDRESSES: All meetings will be held at the Doubletree Hotel, 1515 Rhode Island Avenue, NW., Washington, DC, (202) 232-7000. Written requests to make oral presentations must be sent to: Mark Falcone, Designated Federal Official for the Advisory Committee on Beginning Farmers and Ranchers, Farm Service Agency, U.S. Department of Agriculture (USDA), 1400 Independence Avenue, SW., STOP 0522, Washington, DC 20250-0522; telephone (202) 720-1632; FAX (202) 690-1117; e-mail: mark.falcone@wdc.usda.gov.

FOR FURTHER INFORMATION CONTACT: Mark Falcone at (202) 720-1632.

SUPPLEMENTARY INFORMATION: Section 5 of the Agricultural Credit Improvement Act of 1992 (Pub. L. 102-554) required the Secretary of Agriculture (the Secretary) to establish the Committee for the purpose of advising the Secretary on the following:

(1) The development of a program of coordinated financial assistance to qualified beginning farmers and ranchers required by section 309(i) of the Consolidated Farm and Rural Development Act (7 U.S.C. 1929). Under the program, Federal and State beginning farmer programs provide financial assistance to beginning farmers and ranchers;

(2) Methods of maximizing the number of new farming and ranching opportunities created through the program;

(3) Methods of encouraging States to participate in the program;

(4) The administration of the program; and

(5) Other methods of creating new farming or ranching opportunities.

The Committee meets at least once a year and all meetings are open to the public. The duration of the Committee is indefinite. Earlier meetings of the Committee, beginning in 1999, provided an opportunity for members to exchange ideas on ways to increase opportunities for beginning farmers and ranchers. Members discussed various issues and drafted numerous recommendations, which were provided to the Secretary.

Agenda items for the July 2006 meetings include:

(1) Discussions concerning provisions to recommend for inclusion in the 2007 Farm Bill to assist beginning farmers and ranchers;

(2) Farm Credit System lending to young, small, and beginning farmers and ranchers;

(3) Bank lending to beginning farmers and ranchers;

(4) Opportunities for beginning farmers and ranchers through USDA's Cooperative State Research, Education, and Extension Service (CSREES), Natural Resources Conservation Service (NRCS) and Farm Service Agency (FSA).

Attendance is open to all interested persons but limited to space available. Anyone wishing to make an oral statement should submit a request in writing (letter, fax, or e-mail) to Mark Falcone at the above address. Statements should be received no later than July 5, 2006. Requests should include the name and affiliation of the individual who will make the presentation and an outline of the issues to be addressed.

The floor will be open to oral presentations beginning at 1:15 p.m. EST on July 11, 2006. Comments will be limited to 5 minutes, and presenters will be approved on a first-come, first-served basis. Persons with disabilities who require special accommodations to attend or participate in the meetings should contact Mark Falcone by July 5, 2006.

Signed in Washington, DC, on June 16, 2006.
Thomas B. Hofeller,
Acting Administrator, Farm Service Agency.

[FR Doc. E6-9856 Filed 6-21-06; 8:45 am]

BILLING CODE 3410-05-P